DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Room 4211, U.S. Department of Commerce, 14th Street and Constitution Avenue, NW., Washington, DC.

Docket Number: 01-009. Applicant: University of Virginia, Department of Psychology, 102 Gilmer Hall, P. O. Box 400400, Charlottesville, VA 22904-4400. Instrument: Electron Microscope, Model JEM-1010. Manufacturer: JEOL Ltd., Japan.

Intended Use: The instrument is intended to be used for ultrastructural examination of animal or postmortem human neural material prepared for basic neurobiology research and teaching purposes. In addition, the instrument will be used in training graduate and undergraduate students on ultrastructural approaches in neurobiology. Application accepted by Commissioner of Customs: April 2, 2001.

Gerald A. Zerdy,
Program Manager, Statutory Import Programs Staff.

[FR Doc. 01-10155 Filed 4-23-01; 8:45 am]

BILLING CODE 3510-DS-P